DEPARTMENT OF COMMERCE

National Oceanic and Atmospheric Administration

RIN: 0648-XC30

Pacific Fishery Management Council; Public Meeting

AGENCY: National Marine Fisheries Service (NMFS), National Oceanic and Atmospheric Administration (NOAA), Commerce.

ACTION: Notice of public meeting.

SUMMARY: The Pacific Fishery Management Council (Council) and NMFS will hold a Coastal Pelagic Species (CPS) Stock Assessment Review (STAR) Panel workshop to review assessment methods for Pacific mackerel and Pacific Sardine.

DATES: The workshop is scheduled for Tuesday, September 18, 2007, from 10 a.m to 5 p.m.; Wednesday, September 19, 2007, and Thursday September 20, from 8 a.m. to 5 p.m.; and Friday, September 21, 2007, from 8 a.m. to until business for the day is completed.

ADDRESSES: The STAR Panel workshop will be held at the National Marine Fisheries Service, Southwest Fisheries Science Center (SWFSC), Green Room, 8604 La Jolla Shores Drive, La Jolla, CA 92037; telephone: (858) 546-7000.

Council address: Pacific Fishery Management Council, 7700 NE Ambassador Place, Suite 101, Portland, OR 97220-1384.

FOR FURTHER INFORMATION CONTACT: Mr. Mike Burner, Pacific Fishery Management Council; telephone: (503) 820-2280; or Dr. Ray Conser, Southwest Fisheries Science Center; telephone: (858) 546-7000.

SUPPLEMENTARY INFORMATION: The purpose of the CPS STAR Panel meeting is to review draft stock assessment documents and any other pertinent information for Pacific mackerel and Pacific Sardine, work with the Stock Assessment Team to make necessary revisions, and produce a STAR Panel report for use by the Council family and other interested persons for developing management recommendations for the 2008 Pacific sardine fishery and assessment methodology recommendations in advance of future updates of the Pacific mackerel assessment.

Although non-emergency issues not contained in this notice may arise during the STAR Panel meeting, those issues may not be the subject of formal action during this meeting. Formal action will be restricted to those issues specifically listed in this notice and any issues arising after publication of this notice that require emergency action under Section 305(c) of the Magnuson-Stevens Fishery Conservation and Management Act, provided the public has been notified of the intent to take final action to address the emergency.

Special Accommodations

The meeting is physically accessible to people with disabilities. Requests for sign language interpretation or other auxiliary aids should be directed to Ms. Carolyn Porter at (503) 820-2280 at least 5 days prior to the meeting date.

Entry to the Southwest Fisheries Science Center requires visitors to register with the front office each morning. A visitor's badge, which must be worn while at SWFSC, will be issued to non-Federal employees participating in the meeting. Since parking is at a premium at the SWFSC, car pooling, and mass transit are encouraged.

Dated: August 24, 2007.
James P. Burgess,
Acting Director, Office of Sustainable Fisheries, National Marine Fisheries Service.

[FR Doc. E7-17087 Filed 8-28-07; 8:45 am]

BILLING CODE 3510-22-S